FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 2, 2014.

A. Federal Reserve Bank of Minneapolis (Jacquelyn K. Brunmeier, Assistant Vice President) 90 Hennepin Avenue, Minneapolis, Minnesota 55480-0291:

1. Scott David Bormann, Douglas Lee Bormann, both of Parkston, South Dakota, and Shirley Jean Altenhofen, Harper, Iowa, individually and as trustees of the Bormann Family Trust, Parkston, South Dakota; to retain voting shares of Parkston Investment Company, and thereby indirectly retain voting shares of Farmers State Bank, both in Parkston, South Dakota.

In addition, the Bormann Family Trust, James D. Bormann, Parkston, South Dakota, Angela Marie Bormann, Sioux Falls, South Dakota, and Michael Aaron Bormann, Parkston, South Dakota, all to become members of the Bormann Family Shareholders Group, and retain voting shares of Parkston Investment Company, and thereby indirectly retain voting shares of Farmers State Bank, both in Parkston, South Dakota.

B. Federal Reserve Bank of Dallas (E. Ann Worthy, Vice President) 2200 North Pearl Street, Dallas, Texas 75201-2272:

1. Barkat Ali, Southlake, Texas; to acquire voting shares of Riverbend Financial Corporation, and thereby indirectly acquire voting shares of Riverbend Bank, both in Fort Worth, Texas.

Board of Governors of the Federal Reserve System, May 13, 2014.
Michael J. Lewandowski,
Associate Secretary of the Board.

[FR Doc. 2014-11314 Filed 5-15-14; 8:45 am]

BILLING CODE 6210-01-P